DEPARTMENT OF HEALTH AND HUMAN SERVICES

Agency for Healthcare Research and Quality

AHRQ Standing Workgroup for Quality Indicator Measure Specification

AGENCY: Agency for Healthcare Research and Quality (AHRQ), HHS.

ACTION: Notice of request for nominations.

SUMMARY: The Agency for Healthcare Research and Quality (AHRQ) is seeking nominations for both a time-limited workgroup and a standing workgroup to be convened by an AHRQ contractor. The workgroups shall be comprised of individuals with knowledge of the AHRQ Quality Indicators (QIs), their technical specifications, and associated methodological issues. The overarching goals of each group are to provide feedback to AHRQ regarding refinements to the QIs. The time-limited workgroup is more restricted to specific clinical or methodological issues, while the standing workgroup addresses broader issues related to the measurement cycle.

Because AHRQ did not get a set of candidates with anticipated breadth of diversity of experience as required in response to our notice (https://www.federalregister.gov/articles/2013/01/28/2013-01348/ahrq-standing-workgroup-for-quality-indicator-measure-specification) published on January 28, 2013, Volume 78, No. 18, page numbers: 5810 & 5811, AHRQ resubmits the same notice to give opportunity to those interested in this objective.

DATES: Please submit nominations on or before May 3, 2013. Self-nominations are welcome. Third-party nominations must indicate that the individual has been contacted and is willing to serve on the workgroup. Selected candidates will be contacted by AHRQ no later than May 17, 2013. Please include the workgroup of interest. Candidates may apply for both workgroups.

ADDRESSES: Nominations can be sent in the form of a letter or email, preferably as an electronic file with an email attachment, and should specifically address the submission criteria as noted below. Electronic submissions are strongly encouraged. Responses should be submitted to: Pamela Owens, Ph.D., Senior Research Scientist, Agency for Healthcare Research and Quality, Center for Delivery, Organization and Markets, 540 Gaither Road, Rockville, MD 20850, Email: PAM.OWENS@AHRQ.hhs.gov, Phone: (301) 427-1412, Fax: (301) 427-1430.

FOR FURTHER INFORMATION CONTACT: Please contact Pamela Owens, see her information above.

Background

The AHRQ Quality Indicators (AHRQ QIs) are a unique set of measures of health care quality that make use of readily available hospital inpatient administrative data. The QIs have been used for various purposes. Some of these include tracking, hospital self-assessment, reporting of hospital-specific quality or pay for performance. The AHRQ QIs are provider- and area-level quality indicators and currently consist of four modules: the Prevention Quality Indicators (PQIs), the Inpatient Quality Indicators (IQIs), the Patient Safety Indicators (PSIs), and the Pediatric Quality Indicators (PQIs). In response to feedback from the AHRQ QI user community and guidance from NQF, AHRQ is committed to the ongoing improvement and refinement of the QIs in an accurate and transparent manner. For additional information about the AHRQ QIs, please visit the AHRQ Web site at http://www.qualityindicators.AHRQ.gov.

SUPPLEMENTARY INFORMATION: These workgroups are being administered by AHRQ's contractor as part of a structured approach to formally and broadly engage stakeholders, and to enhance and expand transparency about the scientific development of the AHRQ QIs.

Time-Limited Workgroup

Time-limited workgroups are formative in nature, providing feedback on significant measure improvement issues and representing a broad range of stakeholders. The focus for this upcoming year will be the Prevention Quality Indicators (PQI). The role of time-limited group members is to: (1) Provide technical guidance on the PQI specifications and rationales, risk adjustment strategies, and other quality measurement issues; (2) provide input on critical information gaps, as well as research methods to address them; (3) provide guidance on draft recommendations for the PQI measure refinements; (4) offer scientifically rigorous recommendations for the evaluation and validation efforts required to ensure the accuracy of the PQIs; and, (5) provide input on and review of the contractor's technical report resulting from the workgroup's discussions.

The time-limited workgroup will consist of 8-12 members consisting of:

• One or more statisticians specialized in the relevant statistical methods and applications

• One or more individuals with expertise in population health, community health care and prevention, and access to and quality of care

• One or more individuals with experience using AHRQ PQI measures for assessing health system performance and public reporting

• One or more individuals with expertise in developing algorithms using ICD-9-CM codes to construct or modify quality indicators using administrative data is desirable, but not mandatory

In addition, the workgroup is expected to include representatives from impacted provider groups and their professional organizations, other stakeholders, consumers and other users, quality alliances, business coalitions, medical or specialty societies, measure developers, accrediting organizations, and public and private payers.

Standing Workgroup

The standing workgroup is part of a structured approach to bring together individuals from multiple disciplines for the purpose of providing technical feedback on proposed updates to the AHRQ QIs. The intent is to collect feedback in a standardized fashion, and to ensure continued improvement of key measurement aspects of the QIs based on new data sources, data enhancements, and methodological advances. The standing workgroup may potentially provide guidance for the development of new indicators or the modification or retirement of existing indicators. Annual topics include: (1) Strategic areas for AHRQ QI program development for the upcoming year, (2) measure specification, software and documentation changes that have been proposed from users, the literature or other sources, (3) results from the analysis of proposed changes and review of recommendations for implementation, and (4) general methodological developments in quality measurement.

The standing workgroup will consist of 8-12 members to form a diverse group of clinicians and other individuals from a variety of disciplines and settings with expertise and interest in quality measurement and improvement. Members of the standing workgroup may include:

• One or more currently practicing clinicians specialized in various disciplines

• One or more individuals with inpatient nursing and/or nursing management experience

• One or more individuals with experience using AHRQ 01 measures for assessing hospital performance and/or public reporting

• One of more individuals with expertise in developing algorithms for relevant quality indicators using administrative data

• One or more individuals with expertise in validating ICD-9-CM codes using chart abstraction (to assess criterion validity), or assessing their accuracy in identifying individuals at risk for specific adverse outcomes (predictive validity)

• One or more individuals with experience using HCUP or similar data for the purpose of quality measurement

• One or more individuals with knowledge of ICD-9-CM and ICD-10-CM coding guidelines and practices

Submission Criteria

To be considered for membership on either workgroup, please send the following information for each nominee:

1. A brief nomination letter highlighting experience and knowledge in the use of the AHRQ QIs, including any experience with the National Quality Forum (NQF) Consensus Development Process, and the workgroup of interest. The nominee's profession and specialty, and the spectrum of his or her experience related to the QIs should be described. Please include full contact information of nominee: name, title, organization, mailing address, telephone and fax numbers, and email address.

2. Curriculum vita (with citations to any pertinent publications related to quality measure development or use).

3. Description of any financial interest, recent conduct, or current or planned commercial, non-commercial, institutional, intellectual, public service, or other activities pertinent to the potential scope of the workgroup, which could be perceived as influencing the workgroup's process or recommendations. The objective is not to prevent nominees with potential conflicts of interest from serving on the workgroups, but to obtain such information so as to best inform the selection of workgroup members, and to help minimize such conflicts.

Nominee Selection Criteria

Selection of standing workgroup members will be based on the following criteria:

• Knowledge of and experience with health care quality measurement using administrative data, including issues of coding, specification, and risk adjustment

• Peer-reviewed publications relevant to developing, testing, or applying health care quality measures based on ICD-coded administrative data

• Knowledge of current quality measurement methodologies published in the literature

• Clinical expertise in the use and applications of the AHRQ QIs

• Knowledge of the NQF measure submission and maintenance process

The selection process will be adapted to ensure that the standing workgroup includes a diverse group of clinicians and other individuals from a variety of disciplines and settings.

Time Commitment

Time-limited and standing workgroup participants will hold a minimum two-year term with an optional extension. The time-limited workgroup will meet by teleconference approximately three times for approximately two hours each year, with a total time commitment including preparation and follow-up time of approximately 8-12 hours. The standing workgroup will meet quarterly by teleconference for approximately two hours with an annual time commitment including preparation and follow-up time of approximately 12-16 hours.

Workgroup Activities

1. Workgroup members will receive pre-meeting material to review and to provide written feedback (1.0 hours).

2. The workgroup meeting will be convened by phone or web conference. Initial feedback and revisions will be discussed during the live meetings along with other relevant topics (2.0 hours).

3. Post meeting, members will review and comment on meeting minutes and associated documents along with any follow-up action items (1 hour).

4. There may be opportunities for workgroup members to collaboratively publish peer-reviewed journal articles or reports based on workgroup activities. However, this is not a mandatory requirement of workgroup members and is not included in the estimated time commitment.

Dated: April 5, 2013.
Carolyn M. Clancy,
Director, AHRQ.

[FR Doc. 2013-08834 Filed 4-16-13; 8:45 am]

BILLING CODE 4160-90-M